Memorandum of January 23, 2025

Federal Recognition of the Lumbee Tribe of North Carolina

Memorandum for the Secretary of the Interior

Section 1. Purpose and Policy. The Lumbee Tribe of North Carolina, known as the People of the Dark Water, have a long and storied history. The tribe's members were descendants of several tribal nations from the Algonquian, Iroquoian, and Siouan language families, including the Hatteras, the Tuscarora, and the Cheraw. The waters of the Lumbee River and lands that surround it have protected and provided for the Lumbee people for centuries despite war, disease, and many other perils.

In 1885, the State of North Carolina recognized the Lumbee people as an Indian tribe. 1885 N.C. Sess. Laws 92. In 1956, President Dwight D. Eisenhower signed the Lumbee Act (Public Law 84-570, 70 Stat. 254), which recognized the Lumbee as the Lumbee Indians of North Carolina but denied Lumbee Indians Federal benefits associated with such recognition. Today, according to the State of North Carolina, the Lumbee Tribe consists of more than 55,000 members, making it the largest tribe east of the Mississippi River and the ninth-largest tribe in the Nation.

In 2024, the United States House of Representatives passed, by a vote of 311-96, the Lumbee Fairness Act (H.R. 1101), which would grant the Lumbee Tribe full Federal recognition, but this legislation was not considered by the United States Senate before the end of the 118th Congress. Similar legislation has passed the House of Representatives several times.

Considering the Lumbee Tribe's historical and modern significance, it is the policy of the United States to support the full Federal recognition, including the authority to receive full Federal benefits, of the Lumbee Tribe of North Carolina.

Sec. 2. Directive for Recognition Plan. (a) Within 90 days of the date of this memorandum, the Secretary of the Interior shall review all applicable authorities regarding the recognition or acknowledgement of Indian tribes and, in consultation with the leadership of the Lumbee Tribe of North Carolina, shall submit to the President a plan to assist the Lumbee Tribe in obtaining full Federal recognition through legislation or other available mechanisms, including the right to receive full Federal benefits.

(b) The plan shall include consideration and analysis of each potential legal pathway to effectuate full Federal recognition of the Lumbee Tribe, including through an act of the Congress, judicial action, or the Procedures for Federal Acknowledgement of Indian Tribes set forth in 25 CFR part 83.

(c) The Secretary of the Interior is authorized and directed to publish this memorandum in the Federal Register.

THE WHITE HOUSE,

Washington, January 23, 2025

[FR Doc. 2025-02124

Filed 1-30-25; 8:45 am]

Billing code 4310-10-P